INTERNATIONAL TRADE COMMISSION

[Investigation No. 731-TA-101 (Second Review)]

Greige Polyester/Cotton Printcloth From China

AGENCY: International Trade Commission.

ACTION: Revised schedule for the subject review.

EFFECTIVE DATE: March 1, 2005.

FOR FURTHER INFORMATION CONTACT: Gail Burns (202) 205-2501, Office of Investigations, U.S. International Trade Commission, 500 E Street SW., Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its Internet server (http://www.usitc.gov). The public record for this review may be viewed on the Commission's electronic docket (EDIS) at http://edis.usitc.gov.

SUPPLEMENTARY INFORMATION: On August 25, 2004, the Commission established a schedule for the conduct of the subject review (69 FR 53465, September 1, 2004), and revised its schedule on January 28, 2005 (70 FR 6036, February 4, 2005). The Commission is again revising its schedule; the Commission's hearing will be held at the U.S. International Trade Commission Building at 9:30 a.m. on April 5, 2005, and the deadline for filing posthearing briefs is April 12, 2005. The Commission's schedule in this review is otherwise unchanged. No party has objected to the Commission's schedule, as revised.

For further information concerning this review, see the Commission's notices cited above and the Commission's Rules of Practice and Procedure, part 201, subparts A through E (19 CFR part 201), and part 207, subparts A and C (19 CFR part 207).

Authority: This review is being conducted under authority of title VII of the Tariff Act of 1930; this notice is published pursuant to section 207.21 of the Commission's rules.

By order of the Commission.
Issued: March 3, 2005.
Marilyn R. Abbott,
Secretary to the Commission.

[FR Doc. 05-4571 Filed 3-8-05; 8:45 am]

BILLING CODE 7020-02-P